DEPARTMENT OF ENERGY

Federal Energy Regulatory Commission

Notice of Commission Staff Attendance

The Federal Energy Regulatory Commission hereby gives notice that members of the Commission's staff may attend the following meetings related to the transmission planning activities of the Midwest Independent Transmission System Operator, Inc. (MISO):

Order 1000 Right of First Refusal Task Team—August 13, 2012

Order 1000 Right of First Refusal Task Team—August 23, 2012

Mid-Continent Area Power Pool/MISO Order 1000 Interregional Workshop—August 30, 2012

Southwest Power Pool, Inc./MISO Order 1000 Interregional Workshop—September 20, 2012

The above-referenced meeting will be held at: MISO Headquarters, 720 City Center Drive, Carmel, IN 46032.

The above-referenced meeting is open to the public.

Further information may be found at www.misoenergy.org.

The discussions at the meeting described above may address matters at issue in the following proceedings:

Docket No. ER09-35-001, Tallgrass Transmission, LLC

Docket No. ER09-36-001, Prairie Wind Transmission, LLC

Docket No. ER09-548-001, ITC Great Plains, LLC

Docket No. ER09-659-002, Southwest Power Pool, Inc.

Docket No. ER10-1791, Midwest Independent Transmission System Operator, Inc.

Docket No. ER12-1179-000, Southwest Power Pool, Inc.

Docket No. ER11-1844, Midwest Independent Transmission System Operator, Inc.

Docket No. ER11-2700, Midwest Independent Transmission System Operator, Inc.

Docket No. ER11-4081, Midwest Independent Transmission System Operator, Inc.

Docket No. ER11-4105-000, Southwest Power Pool, Inc.

Docket No. ER11-4514, Midwest Independent Transmission System Operator, Inc.

Docket No. ER12-309, Midwest Independent Transmission System Operator, Inc.

Docket No. ER12-427, Midwest Independent Transmission System Operator, Inc.

Docket No. ER12-480, Midwest Independent Transmission System Operator, Inc.

Docket No. ER12-715, Midwest Independent Transmission System Operator, Inc.

Docket No. ER12-1401-000, Southwest Power Pool, Inc.

Docket No. ER12-1415-000, Southwest Power Pool, Inc.

Docket No. ER12-1460-000, Southwest Power Pool, Inc.

Docket No. ER12-1586-001, Southwest Power Pool, Inc.

Docket No. ER12-1610-000, Southwest Power Pool, Inc.

Docket No. ER12-1772-000, Southwest Power Pool, Inc.

Docket No. ER12-1779-000, Southwest Power Pool, Inc.

Docket No. ER12-1835, Midwest Independent Transmission System Operator, Inc.

Docket No. ER12-1928, Midwest Independent Transmission System Operator, Inc.

Docket No. ER12-2129, Midwest Independent Transmission System Operator, Inc.

Docket No. ER12-2216, Midwest Independent Transmission System Operator, Inc. and Ameren Service Company

Docket No. ER12-2242, Midwest Independent Transmission System Operator, Inc.

Docket No. ER12-2257, Midwest Independent Transmission System Operator, Inc.

Docket No. ER12-2366-000, Southwest Power Pool, Inc.

Docket No. ER12-2387-000, Southwest Power Pool, Inc.

Docket No. EL11-30, E.ON Climate & Renewables North America, LLC v. Midwest Independent Transmission System Operator, Inc.

Docket No. EL11-34-001, Midwest Independent Transmission System Operator, Inc.

Docket No. EL11-56, FirstEnergy Service Company

Docket No. EL12-2-000, Southwest Power Pool, Inc.

Docket No. EL12-35, Midwest Independent Transmission System Operator, Inc.

Docket No. EL12-60-000, Southwest Power Pool, Inc., et al.

Docket No. OA08-53, Midwest Independent Transmission System Operator, Inc.

For more information, contact Jason Strong, Office of Energy Markets Regulation, Federal Energy Regulatory Commission at (202) 502-6124 or jason.strong@ferc.gov.

Dated: August 10, 2012.
Kimberly D. Bose,
Secretary.

[FR Doc. 2012-20426 Filed 8-20-12; 8:45 am]

BILLING CODE 6717-01-P